DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before June 7, 2012.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

(1) An alternative method of achieving the result of such standard exists which will at all times guarantee no less than the same measure of protection afforded the miners of such mine by such standard; or

(2) That the application of such standard to such mine will result in a diminution of safety to the miners in such mine.

In addition, the regulations at 30 CFR 44.10 and 44.11 establish the requirements and procedures for filing petitions for modification.

II. Petitions for Modification

Docket Number: M-2012-066-C.

Petitioner: Perry County Coal Corporation, 1845 S. KY Hwy. 15, Hazard, Kentucky 41701.

Mine: E3-1 Mine, MSHA I.D. No. 15-18662; E4-1 Mine, MSHA I.D. No. 15-18565; and E4-2 Mine, MSHA I.D. No. 15-19015, located in Perry County, Kentucky.

Regulation Affected: 30 CFR 75.500(d) (Permissible electric equipment).

Modification Request: The petitioner requests a modification of the existing standard to permit the use of battery-powered nonpermissible surveying equipment in and inby the last open crosscut, including, but not limited to, portable battery-operated mine transits, total station surveying equipment, distance meters, and laptop computers. The petitioner proposes to use up-to-date, practical, and accurate technology in the preparation of mine maps to ensure the safety of the miners by providing proper and accurate mining directional control in the mine. The petitioner states that:

(1) Underground mining, by its nature, size, and complexity, and the relative closeness to other abandoned mines, gas/oil wells, and other features, requires that accurate and precise measurements be completed in a prompt and efficient manner. The use of currently available non-electronic equipment is less accurate and less dependable than the available electronic equipment and requires more exposure of surveyors to hazardous mining environments.

(2) Application of the existing standard will result in a diminution of safety to the miners.

(3) As an alternative method, the petitioner will examine all nonpermissible electronic surveying equipment to ensure that the equipment is being maintained in a safe operating condition prior to use in or inby the last open crosscut. The petitioner will have a qualified person, as defined in 30 CFR 75.153, to examine the equipment at intervals not to exceed 7 days. Results of the examinations will be recorded in the weekly examination of electrical equipment book. The examinations will include:

(i) Checking the instrument for any physical damage and the integrity of the case;

(ii) Removing the battery and inspecting for corrosion and damage;

(iii) Inspecting the contact points to ensure a secure connection to the battery;

(iv) Reinserting the battery and powering up and shutting down the instrument to ensure proper connections; and

(v) Checking the battery compartment cover to ensure that it is securely fastened.

(4) A qualified person, as defined in 30 CFR 75.151, will continuously monitor for methane immediately before and during the use of nonpermissible surveying equipment in or inby the last open crosscut or in the return.

(5) Nonpermissible surveying equipment will not be used if methane is detected in concentrations at or above 1.0 percent. When 1.0 percent or more of methane is detected while the nonpermissible surveying equipment is being used, the equipment will be deenergized immediately and the nonpermissible electronic equipment will be withdrawn out of the return.

(6) Nonpermissible surveying equipment will not be used in areas where float coal dust is in suspension. Batteries contained in the surveying equipment will be changed out or charged in fresh air and not in the return.

(7) Qualified personnel who use the surveying equipment will be properly trained to recognize the hazards and limitations associated with the use of nonpermissible surveying equipment.

(8) The nonpermissible surveying equipment will not be put into service until MSHA has initially inspected the equipment and determined that it is in compliance with the terms and conditions in this petition.

(9) Within 60 days after the Proposed Decision and Order becomes final, the petitioner will submit proposed revisions for its approved 30 CFR Part 48 training plan to the District Manager. These proposed revisions will specify initial and refresher training regarding the terms and conditions stated in the Proposed Decision and Order.

The petitioner asserts that the proposed alternative method will at all times guarantee no less than the same measure of protection afforded by the existing standard.

Docket Number: M-2012-067-C.

Petitioner: Sunrise Coal, LLC, 1183 East Canvasback Drive, Terre Haute, Indiana 47802.

Mine: Carlisle Mine, MSHA I.D. No. 12-02349, 1466 East State Road 58, Carlisle, Indiana 47838, located in Sullivan County, Indiana.

Regulation Affected: 30 CFR 75.705 (Work on high-voltage lines; deenergizing and grounding).

Modification Request: The petitioner requests a modification of the existing standard to permit work on high-voltage lines during testing of the CDC/NIOSH-funded, Microdesign, Inc., Communication System using power lines as a mine distribution channel. The petitioner states that:

(1) One implementation of this system involves using radio frequency (RF) signal couplers that are loosely placed around the high-voltage cable over the cable guard (“distribution line couplers”). This system requires knocking high-voltage breakers multiple times, locking and tagging out the cable, and reenergizing the cable once the distribution line couplers have been repositioned. By implementing safeguards and policies concerning the handling of high-voltage cable, an improvement in safety can be achieved by limiting the amount of times the breaker is opened and closed.

(2) Data is collected by programmable radio equipment that is either attached to the distribution line couplers, other RF couplers plugged in the power center, or power transformer (PT) provided 120 volts AC outlets or antennas. (U.S. Patent 8,116,714 describes some of the equipment that we use for these tests and several relevant applications.)

(3) The Carlisle Mine uses 12, 470 volts in high-voltage distribution lines. The high-voltage distribution lines are maintained in compliance with 30 CFR 75.800 through 75.811.

(4) The distribution line couplers are passive and greatly attenuate signals below a few kHz.

(5) Before installation or removal of the distribution line couplers, the high-voltage line will be visually examined by a qualified person (as defined 30 CFR 75.153).

(6) Testing will not be done in wet conditions.

(7) The installation or removal of the distribution line couplers will be done by a qualified person as defined in 30 CFR 75.153.

(8) During installation and removal of the distribution line couplers, Class 2 insulating gloves with leather protective gloves will be worn. Class 2 gloves are rated to 17,000 volts and will be electrically tested every six months in accordance with a nationally recognized standard. The gloves will be visually inspected before each use and the insulating gloves will be field air-tested before each use to ensure their effectiveness. A sufficient storage facility will be provided for the cable handling protective equipment and clearly marked to indicate its purpose, and the facility will be examined weekly to assure that the equipment is present.

(9) This petition will only be used at the Carlisle Mine during field testing of the Northern Microdesign Communication System or a derivative commercial product that uses the same components.

The petitioner asserts that this proposed alternative method will provide at least the same level of protection of personnel as that afforded by the existing standard.

Docket Number: M-2012-068-C.

Petitioner: Little Buck Coal Company #2, 33 Pine Lane, Pine Grove, Pennsylvania 17963.

Mine: Buck Mt. Slope Mine, MSHA I.D. No. 36-09860, located in Schuylkill County, Pennsylvania.

Regulation Affected: 30 CFR 75.1200(d) and (i) (Mine maps).

Modification Request: The petitioner requests a modification of the existing standard to permit the substitution of cross-sections in lieu of contour lines through the intake slope, at locations of rock tunnel connections between veins, and at 1,000-foot intervals of advance from the intake slope. The petitioner also requests to limit the required mapping of mine workings above and below to those present within 100 feet of the vein(s) being mined unless these veins are interconnected to other veins beyond the 100 feet limit through rock tunnels. The petitioner states that:

(1) Due to the steep pitch encountered in mining anthracite coal veins, contours provide no useful information and their presence would make portions of the map illegible.

(2) Use of cross-sections in lieu of contour lines has been practiced since the late 1800's. Cross-sections provide critical information relative to the spacing between veins and proximity to other mine workings that fluctuate considerably.

(3) The vast majority of current underground anthracite mining involves either second mining of remnant pillars from previous mining/mine operators or the mining of veins of lower quality in proximity to inaccessible and frequently flooded abandoned mine workings that may or may not be mapped.

(4) All mapping for mines above and below is researched by our contract engineer for the presence of interconnecting rock tunnels between veins in relation to our mine. A hazard analysis will be done when mapping indicates the presence of known or potentially flooded workings.

(5) Mine workings found to exist beyond 100 feet from our mine, when no rock tunnel connections are found, are recognized as presenting no hazard to our mine due to the pitch of the vein and rock separation between.

(6) Additionally, the mine workings above and below are usually inactive and abandoned and, therefore, not subject to changes during the life of the mine.

(7) Where evidence indicates that prior mining was conducted on a vein above and below, and research has been exhausted on the availability of mine mapping, the vein will be considered to be mined and flooded, and appropriate precautions taken under 30 CFR 75.388, where possible.

(8) Where potential hazards exist and in-mine drilling capabilities limit penetration, surface boreholes may be used to intercept the workings, and results will be analyzed prior to the beginning of mining in the affected area.

The petitioner asserts that the proposed alternative method will provide at least the same measure of protection afforded the miners under the existing standard.

Docket Number: M-2012-069-C.

Petitioner: Little Buck Coal Company #2, 33 Pine Lane, Pine Grove, Pennsylvania 17963.

Mine: Buck Mt. Slope, MSHA I.D. No. 36-09860, located in Schuylkill County, Pennsylvania.

Regulation Affected: 30 CFR 75.1202 and 75.1202-1(a) (Temporary notations, revisions, and supplements).

Modification Request: The petitioner requests a modification of the existing standard to permit the required interval of surveys to be established on an annual basis from the initial survey in lieu of the currently required 6-month interval. The petitioner states that:

(1) The map at the mine will continue to be updated by hand notations on a daily basis and subsequent surveys will be conducted prior to commencing retreat mining and whenever a drilling program under 30 CFR 75.388 or plan for mining into inaccessible areas under § 75.389 is required.

(2) The low production and slow rate of advance in anthracite mining make surveying on 6-month intervals impractical. In most cases annual development is frequently limited to less than 500 feet of gangway advance with associated up-pitch development.

(3) The vast majority of small anthracite mines are non-mechanized and use hand-loading methods of mining.

(4) Development above the active gangway is designed to mine into the level above at designated intervals, thereby maintaining sufficient control between both surveyed gangways.

(5) The available engineering/surveyor resources are limited in the anthracite coal fields, with surveying on an annual basis difficult to achieve with four individual contractors currently available.

The petitioner asserts that the proposed alternative method will provide at least the same measure of protection afforded the miners under the existing standard.

Docket Number: M-2012-070-C.

Petitioner: Little Buck Coal Company #2, 33 Pine Lane, Pine Grove, Pennsylvania 17963.

Mine: Buck Mt. Slope Mine, MSHA I.D. No. 36-09860, located in Schuylkill County, Pennsylvania.

Regulation Affected: 30 CFR 75.1400 (Hoisting equipment; general).

Modification Request: The petitioner requests a modification of the existing standard for cages, platforms, or other devices used to transport persons in shafts or slopes in underground coal mines. The petitioner seeks to permit the use of a slope conveyance (gunboat) to transport persons without installing safety catches or other no less effective devices but instead use an increased rope strength/safety factor and secondary safety rope connection in place of such devices. The petitioner states that:

(1) The haulage slope of this anthracite mine is typical of those in the anthracite region, with a relatively high angle and frequently changing pitches.

(2) A functional safety catch capable of working in slopes with knuckles and curves is not commercially available. A makeshift device would be activated on or by knuckles or curves when no emergency exists. Activation of a safety catch can damage the haulage system and subject persons being transported to hazards from dislodged timbering, roof material, or guide rails, and to being battered about within the conveyance.

(3) A safer alternative is to provide secondary safety connections securely fastened around the gunboat and to the hoisting rope above the main termination and use a hoisting rope having a safety factor greater than that recommended in the American Standards Specifications for the Use of Wire Rope in Mines or at least three times greater than the strength required under 30 CFR 75.1431(a).

The petitioner asserts that the proposed alternative method will provide at least the same measure of protection afforded the miners under the existing standard.

Docket Number: M-2012-071-C.

Petitioner: Little Buck Coal Company #2, 33 Pine Lane, Pine Grove, Pennsylvania 17963.

Mine: Little Buck Slope Mine, MSHA I.D. No. 36-09958, located in Schuylkill County, Pennsylvania.

Regulation Affected: 30 CFR 75.1400 (Hoisting equipment; general).

Modification Request: The petitioner requests a modification of the existing standard for cages, platforms, or other devices used to transport persons in shafts or slopes in underground coal mines. The petitioner seeks to permit the use of a slope conveyance (gunboat) to transport persons without installing safety catches or other no less effective devices but instead use an increased rope strength/safety factor and secondary safety rope connection in place of such devices. The petitioner states that:

(1) The haulage slope of this anthracite mine is typical of those in the anthracite region, with a relatively high angle and frequently changing pitches.

(2) A functional safety catch capable of working in slopes with knuckles and curves is not commercially available. A makeshift device would be activated on or by knuckles or curves when no emergency exists. Activation of a safety catch can damage the haulage system and subject persons being transported to hazards from dislodged timbering, roof material, or guide rails, and to being battered about within the conveyance.

(3) A safer alternative is to provide secondary safety connections securely fastened around the gunboat and to the hoisting rope above the main termination and use a hoisting rope having a safety factor greater than that recommended in the American Standards Specifications for the Use of Wire Rope in Mines or at least three times greater than the strength required under 30 CFR 75.1431(a).

The petitioner asserts that the proposed alternative method will provide at least the same measure of protection afforded the miners under the existing standard.

Docket Number: M-2012-072-C.

Petitioner: Consolidation Coal Company, 1000 CONSOL Energy Drive, Canonsburg, Pennsylvania 15317-6506.

Mine: Loveridge No. 22 Mine, MSHA I.D. No. 46-01433, Metz Portal, Fairview, West Virginia 26570, located in Marion County, West Virginia.

Regulation Affected: 30 CFR 75.503 (Permissible electric face equipment; maintenance) and 18.35(a)(2) (Portable trailing cables and cords).

Modification Request: The petitioner requests a modification of the existing standard to permit the maximum length of trailing cables for supplying power to loading machines to be increased to 1,000 feet. The petitioner states that the Loveridge No. 22 Mine is developing longwall panels as part of a continuing mining cycle. The longwall development panels consist of a three-entry system with 275-foot deep cuts to improve roof and abutment pressure control during longwall mining. Ventilation is also improved by limiting the number of stoppings, which have a built-in ventilation pressure loss factor. The Loveridge No. 22 mine is also developing main and submain sections as part of the continuing mining cycle. Enclosures No. 1 and 2 attached to the petition indicate typical entry development section prints showing the need for cable lengths greater than 700 feet for this development system. Enclosure No. 3 attached to the petition is a summary of short-circuit calculations justifying the instantaneous trip setting for the circuit breakers protecting the trailing cables supplying power to 995-volt loading machines in the Loveridge No. 22 Mine. To examine or obtain a copy of the petition and enclosures, contact MSHA using the information in the “For Further Information Contact” section of this notice.

The petitioner proposes to use the following procedures as an alternative to the existing standard:

(1) This petition will apply only to trailing cables supplying three-phase 995-volt power to loading machines.

(2) The maximum lengths of the trailing cables will be 1,000 feet.

(3) All trailing cables exceeding 700 feet in length and supplying three-phase 995-volt power to loading machines will be #2 American Wire Gauge (AWG) or larger.

(4) All circuit breakers used to protect #2 AWG trailing cables exceeding 700 feet in length will have instantaneous trip units calibrated to trip at 800 amperes. The trip setting of these circuit breakers will be sealed or locked, and these circuit breakers will have permanent, legible labels. The calibration, sealing, and labeling will be performed by the manufacturer or at a repair facility outfitted with calibrated test equipment. Each label will identify the circuit breaker as being suitable for protecting #2 AWG cables. The labels will be maintained in legible condition.

(5) Replacement instantaneous trip units used to protect #2 AWG trailing cables will be calibrated to trip at 800 amperes and this setting will be sealed or locked. The calibration, sealing, and labeling will be performed by the manufacturer or at a repair facility outfitted with calibrated test equipment.

(6) During each production day, persons designated by the operator will visually examine the trailing cables to ensure that the cables are in safe operating condition and that the instantaneous settings of the specially calibrated breakers do not have seals or locks removed and that they do not exceed the settings described in paragraphs (4) and (5) above.

(7) Any trailing cables that are not in safe operating condition will be removed from service immediately and repaired or replaced.

(8) Each splice or repair in the trailing cables will be made in a workmanlike manner and in accordance with the instructions of the manufacturer of the splice or repair materials. The outer jacket of each splice or repair will be vulcanized with flame-resistant material or made with material that has been accepted by MSHA as flame-resistant.

(9) In the event the mining methods or operating procedures cause or contribute to the damage of any trailing cable, the cable will be removed from service immediately and repaired or replaced. Additional precautions will be taken to ensure that, in the future, the cable is protected and maintained in safe operation condition.

(10) Permanent warning labels will be installed and maintained on the cover(s) of the power center identifying the location of each sealed short-circuit protection device. These labels will warn miners not to change or alter these sealed short-circuit settings.

(11) The alternative method will not be implemented until all miners who have been designated to examine the integrity of seals and verify the short-circuit settings and proper procedures for examining trailing cables for defects and damage have received the elements of training specified in paragraph (12) below.

(12) Within 60 days after this petition is granted, the petitioner will submit proposed revisions for their approved 30 CFR part 48 training plans to the District Manager. The training will include the following elements:

(a) Mining methods and operating procedures that will protect the trailing cables against damage.

(b) Proper procedures for examining the trailing cables to ensure that the cables are in safe operating conditions.

(c) The hazards of setting the instantaneous circuit breakers too high to adequately protect the trailing cables.

(d) How to verify that the circuit interrupting device(s) protecting the trailing cable(s) are properly set and maintained. The procedures of 30 CFR 48.3 for approval of proposed revisions to already approved training plans will apply.

The petitioner asserts that the proposed alternative method will at all times guarantee at least the same measure of protection to the miners as would be provided by the existing standard.

Docket Number: M-2012-073-C.

Petitioner: Jim Walter Resources, Inc., 3000 Riverchase Galleria, Suite 1700, Birmingham, Alabama 35244.

Mine: No. 4 Mine, MSHA I.D. No. 01-01247, located in Tuscaloosa County, Alabama.

Regulation Affected: 30 CFR 75.507 (Power connection points).

Modification Request: The petitioner requests a modification of the existing standard to permit the use of one or more three-phase 2,400-volt or 4,160-volt alternating-current submersible pumps installed in boreholes of return and bleeder entries outby the last open crosscut. The power connection points would not be ventilated with intake air in the No. 4 Mine. The petitioner states that:

(1) In March 2012, the No. 4 Mine was idle for approximately eight days due to water accumulations in the areas covered by this petition.

(2) The No. 4 Mine is a bituminous coal mine that uses continuous mining and longwall mining machinery.

(3) The three-phase 2,400-volt or 4,160-volt alternating-current electric power circuit(s) for the pump(s) will be designed and installed to:

(a) Contain either a direct or derived neutral wire that must be grounded through a suitable resistor at the source transformer or power center and through a grounding resistor that must extend along with the power conductors and serve as the grounding conductor for the frame of the pump and all associated electric equipment that may be supplied power from this circuit. The borehole casing will be bonded to the system grounding medium.

(b) Contain a grounding resistor that limits the ground-fault current to not more than the values listed below:

(i) For circuits of 2,400 volts or less: 6.5 amperes.

(ii) For circuits of 2,400 volts: 3.75 amperes.

(c) The grounding resistor(s) must be rated for the maximum fault current available and insulated from ground for a voltage equal to the phase-to-phase voltage of the system.

(4) The high-voltage pump circuit(s) will be provided with a suitable circuit interrupting device of adequate interrupting capacity with devices to provide protection against undervoltage, grounded-phase, short-circuit, and overload.

(5) The undervoltage protection device must operate on a loss of voltage to prevent automatic restarting of the equipment.

(6) The grounded-phase protection device will be provided as follows:

(a) The grounded-phase protection device must be set not to exceed 40 percent of the current rating of the neutral grounding resistor.

(b) The high-voltage circuit must also provide the following:

(i) A “look ahead” circuit device to prevent closing the contactor when a phase to ground fault condition exists on the system.

(ii) A test circuit that will inject a test current through the grounded-phase current transformer.

(7) The short-circuit protection device will not be set to exceed the required short-circuit protection for the power cable or 75 percent of the minimum available phase-to-phase short circuit current, whichever is less.

(8) The power system must contain a disconnecting device located on the surface and installed in conjunction with the contactor to provide the following:

(a) A means to provide visual evidence that the power is disconnected from the pump circuit(s).

(b) A means to lock, tag-out, and ground the system.

(c) The high-voltage circuit will be designed to prevent entry into the pump controller unless the disconnect handle is in the off position and the circuit is grounded.

(d) The disconnect device will be clearly identified and provided with a warning sign stating, “Danger, Do Not Enter unless the circuit is opened, locked, tagged-out, and grounded.”

(9) The pump power system(s) must include a fail-safe ground check circuit or other no less effective device approved by MSHA that must cause either a circuit breaker or a contactor to open when either the ground or pilot wire is broken. This device must be installed and maintained operable to monitor the ground continuity from the starter box to the wall head.

(10) The incoming high-voltage three-phase alternating current system must be provided with a low-resistance grounded medium for the grounding of the lightning arrestors for the pump power circuit(s) that is separated from the mine neutral grounding medium by a distance of not less than 25 feet.

(11) A motor controller must be provided and used for pump start-up and shut-down. The pressure differential switch will be designed and installed in a manner that ensures that the pump motors cannot start and/or run in either the manual or automatic mode if the water is lower than 30 feet above the pump inlet, the motor, or the electrical connections of the pumps. The electric control circuits of the pumps will be designed and installed with both a pressure differential switch (PDS) and an under-current recognition device (UCR) that will function independently as redundant mechanisms for deenergizing the pump motor. Both the PDS and the UCR will be suitable for use with a submersible pump. The under-current trip level would be set at 10 percent less than normal operating current. Over-current, ground fault, and overload fault protection will not be able to be reset from a remote start-up or shut-down control location.

(12) The surface pump(s) control and power circuits must be examined as required by 30 CFR 77.502.

(13) The power cable(s) to the submersible pump motor must be suitable for this application and have a current carrying capacity not less than 125 percent of the full load current of the submersible pump motor and an outer jacket suitable for a “wet location.” Optional high-voltage cable (or cabling) to be used for deep-well pump application will include cabling that is armor-jacketed with a continuous armor interlocking jacket. This armor will make contact with the pump discharge casing in each area that is banded to the casing. The armor will be grounded to the grounded side of the neutral grounding resistor located at the source transformers. The pump discharge casing will also be grounded to the grounded side of the neutral grounding resistor.

(14) Splices and connections made in submersible pump cables will be made in a workmanlike manner and meet the requirements of 30 CFR 75.604.

(15) The pump installations will comply with all other applicable title 30 CFR requirements.

(16) The petitioner will notify the District Manager during a normal business day when it has plans to operate a high-voltage deepwell pump for the first time (including the planned date of operation). Upon receiving the petitioner's notice, the District Manager will have an opportunity to inspect the already-installed pump and the pump's electrical system(s) prior to initial operation. The operator may proceed to operate the pump pursuant to this petition for modification if the District has not completed the inspection of the pump and the pump's electrical system(s) the next business day after receiving the operator's notice of the planned initial operation.

(17) Within 60 days after this petition for modification is granted, the petitioner will submit proposed revisions for its approved 30 CFR part 48 training plan to the District Manager. These revisions will specify task training for all qualified mine electricians who perform electric work and monthly electric examinations as required by 30 CFR 77.502, and refresher training regarding the alternative method outlined in the petition and the terms and conditions stated in the petition.

(18) The procedures of 30 CFR 48.3 for approval of proposed revisions to already approved training plans will apply.

The petitioner asserts that the proposed alternative method will at all times guarantee no less than the same measure of protection afforded the miners by the existing standard.

Dated: May 3, 2012.
George F. Triebsch,
Director, Office of Standards, Regulations and Variances.

[FR Doc. 2012-11034 Filed 5-7-12; 8:45 am]

BILLING CODE 4510-43-P